FEDERAL MARITIME COMMISSION

[DOCKET NO. 24-01]

Visual Comfort & Co., Complainant v. COSCO Shipping Lines (North America) Inc., Respondent; Notice of Filing of Complaint and Assignment

Served: January 4, 2024.

Notice is given that a complaint has been filed with the Federal Maritime Commission (the “Commission”) by Visual Comfort & Co. (the “Complainant”) against COSCO Shipping Lines (North America) Inc. (the “Respondent”). Complainant states that the Commission has jurisdiction over the complaint pursuant to 46 U.S.C. 41301 through 41309 and personal jurisdiction over Respondent as an ocean common carrier as defined in 46 CFR 520.2.

Complainant is a corporation organized under the laws of Texas with its principal place of business located in Houston, Texas, and is a shipper as defined in 46 U.S.C. 40102(23).

Complainant identifies Respondent as a Chinese global ocean carrier with an office in the United States located in Secaucus, New Jersey, and as a vessel-operating ocean common carrier as defined in 46 U.S.C. 40102(18).

Complainant alleges that Respondent violated 46 U.S.C. 41102(c) and 41104(a)(10) and 46 CFR 545.5 regarding a failure to establish, observe, and enforce just and reasonable practices relating to receiving, handling, storing, and delivering property; and an unreasonable refusal to deal or negotiate. Complainant alleges these violations arose from assessment of demurrage, detention, per diem, and yard storage charges during periods of time in which the charges were not just or reasonable because of circumstances outside the control of the Complainant and its agents and service providers, and because of acts or omissions of the Respondent.

An answer to the complaint must be filed with the Commission within 25 days after the date of service.

The full text of the complaint can be found in the Commission's electronic Reading Room at https://www2.fmc.gov/readingroom/proceeding/24-01/. This proceeding has been assigned to the Office of Administrative Law Judges. The initial decision of the presiding judge shall be issued by January 6, 2025, and the final decision of the Commission shall be issued by July 21, 2025.

Alanna Beck,
Federal Register Alternate Liaison Officer, Federal Maritime Commission.

[FR Doc. 2024-00280 Filed 1-9-24; 8:45 am]

BILLING CODE 6730-02-P